DEPARTMENT OF ENERGY

Federal Energy Regulatory Commission

[Docket No. ER00-2717-001, et al.]

New England Power Pool, et al.; Electric Rate and Corporate Regulation Filings

August 29, 2000.

Take notice that the following filings have been made with the Commission:

1. New England Power Pool

[Docket No. ER00-2717-001]

Take notice that on August 24, 2000, the New England Power Pool (NEPOOL) Participants Committee tendered for filing notification that the effective date of membership in NEPOOL of Quinnipiaic Energy LLC was August 17, 2000.

Comment date: September 14, 2000, in accordance with Standard Paragraph E at the end of this notice.

2. United States Department of Energy—Western Area Power Administration

[Docket No. EF00-5161-000]

Take notice that on August 23, 2000, the Deputy Secretary of the U.S. Department of Energy, by Rate Order No. WAPA-93, did confirm and approve on an interim basis, to be effective on October 1, 2000, the Western Area Power Administration's (Western) Rate Schedule SNF-5 for the Washoe Project, Stampede Division (Stampede).

The rates in Rate Schedule SNF-5 will be in effect pending the Federal Energy Regulatory Commission's (Commission) approval of these rates or of substitute rates on a final basis through September 30, 2005.

Comment date: September 13, 2000, in accordance with Standard Paragraph E at the end of this notice.

3. California Electricity Oversight Board Complainant v. All Sellers of Energy and Ancillary Services Into the Energy and Ancillary Services Markets Operated by the California Independent System Operator Corporation and the California Power Exchange; All Scheduling Coordinators Acting On Behalf of the Above Sellers; California Independent System Operator Corporation; and California Power Exchange Corporation Respondents

[Docket No. EL00-104-000]

Take notice that on August 29, 2000, the California Electricity Oversight Board (California Board), tendered for filing a Complaint alleging that California's wholesale markets as administered by the California Independent System Operator Corporation and the California Power Exchange Corporation are not workably competitive and that wholesale rates are not just and reasonable. The California Board urges the Commission to take such action to ensure the California's wholesale rates are just and reasonable and to maintain bid caps of no more than $250 per MW of ancillary services, $250 per MWh for energy and $100 per MW for replacement reserve capacity until demonstrable evidence exists that California's wholesale market are workably competitive and that wholesale rates are just and reasonable.

Comment date: September 18, 2000, in accordance with Standard Paragraph E at the end of this notice.

4. Reliant Energy Mid-Atlantic Power Holdings, L.L.C.

[Docket No EG00-248-000]

Take notice that on August 23, 2000, Reliant Energy Mid-Atlantic Power Holdings, L.L.C. (Reliant Energy Mid-Atlantic) tendered for filing information with respect to a change in facts relative to its status as exempt wholesale generator and a demonstration that such change does not affect such status pursuant to Section 32(a)(1) of the Public Utility Holding Company Act of 1935 as amended (PUHCA), 15 U.S.C. § 79z-5a(a)(1) (1994) and Section 365.8 of the Commission's regulations, 18 CFR 365.8.

Comment date: September 19, 2000, in accordance with Standard Paragraph E at the end of this notice. The Commission will limit its consideration of comments to those that concern the adequacy or accuracy of the application.

5. Reliant Energy New Jersey Holdings, L.L.C.

[Docket No EG00-249-000]

Take notice that on August 23, 2000, Reliant Energy New Jersey Holdings, L.L.C. (Reliant Energy New Jersey) tendered for filing information with respect to a change in facts relative to its status as an exempt wholesale generator and a demonstration that such change does not affect such status pursuant to Section 32(a)(1) of the Public Utility Holding Company Act of 1935 as amended (PUHCA), 15 U.S.C. § 79z-5a(a)(1) (1994) and Section 365.8 of the Commission's regulations, 18 CFR 365.8.

Comment date: September 19, 2000, in accordance with Standard Paragraph E at the end of this notice. The Commission will limit its consideration of comments to those that concern the adequacy or accuracy of the application.

6. Reliant Energy Maryland Holdings, L.L.C.

[Docket No EG00-250-000]

Take notice that on August 23, 2000, Reliant Energy Maryland Holdings, L.L.C. (Reliant Energy Maryland) tendered for filing information with respect to a change in facts relative to its status as exempt wholesale generator status and a demonstration that such change does not affect such status pursuant to Section 32(a)(1) of the Public Utility Holding Company Act of 1935 as amended (PUHCA), 15 U.S.C. § 79z-5a(a)(1) (1994) and Section 365.8 of the Commission's regulations, 18 CFR 365.8.

Comment date: September 19, 2000, in accordance with Standard Paragraph E at the end of this notice. The Commission will limit its consideration of comments to those that concern the adequacy or accuracy of the application.

7. New England Power Pool

[Docket No. ER00-3339-001]

Take notice that on August 24, 2000, the New England Power Pool (NEPOOL), Participants Committee tendered for filing a correction to its filing dated July 31, 2000 in the Docket No. ER00-3339.

The NEPOOL Participants Committee states that copies of these materials were sent to the New England state governors and regulatory commissions and the Participants in NEPOOL.

Comment date: September 14, 2000, in accordance with Standard Paragraph E at the end of this notice.

8. Western Resources, Inc.

[Docket No. ER00-3189-001]

Take notice that on August 24, 2000, Western Resources, Inc. (WR), tendered for filing an amendment to its July 19, 2000 filing in this proceeding. The amendment includes (i) an Order No. 614 compliant version of the Letter Agreement between WR, Missouri Joint Municipal Electric Utility Commission (MJMEUC), and Associated Electric Cooperative, Inc. (AECI), (ii) an Order No. 614 compliant version of the Control Area Services Agreement between WR and MJMEUC; and (iii) a statement of intent to refund the time value of money pursuant to § 35.19(a) of the Federal Energy Regulatory Commission's Regulations.

Copies of the filing were served upon MJMEUC.

Comment date: September 14, 2000, in accordance with Standard Paragraph E at the end of this notice.

9. Entergy Services, Inc.

[Docket Nos. ER95-112-010 and ER96-586-005]

Take notice that on August 24, 2000, Entergy Services, Inc., tendered for filing replacement clean copies of its June 19, 2000, compliance filing in Docket Nos. ER95-112 and ER96-586 proceedings.

Comment date: September 14, 2000, in accordance with Standard Paragraph E at the end of this notice.

10. Columbia Falls Aluminum Company, PPL Montana LLC, Alcoa, Inc. and Kaiser Aluminum & Chemical Corporation

[Docket No. ER00-3210-001]

Take notice that on August 23, 2000, Columbia Falls Aluminum Company, PPL Montana, LLC, Alcoa, Inc., and Kaiser Aluminum & Chemical Corporation, tendered for filing an amendment to its July 19, 2000 filing in Docket No. ER00-3210.

Comment date: September 13, 2000, in accordance with Standard Paragraph E at the end of this notice.

11. California Independent System Operator Corporation

[Docket No. ER00-3389-001]

Take notice that on August 24, 2000, the California Independent System Operator Corporation (ISO), tendered for filing a complete Participating Generator Agreement (PGA) between the ISO and San Joaquin Cogen Limited (Service Agreement No. 283). The filing is meant to correct a filing made on August 10, 2000, in which the ISO submitted a revised Schedule 1, Section 1 to the PGA but failed to include the PGA itself in the filing. No changes have been made to the PGA originally filed on January 12, 2000, apart from the revision to Schedule 1, Section 1.

The ISO has requested waiver of the 60-day prior notice requirement to allow the revised Schedule 1, Section 1 to become effective on August 24, 2000.

The ISO states that copies of this filing have been served upon all parties in the above-referenced docket.

Comment date: September 14, 2000, in accordance with Standard Paragraph E at the end of this notice.

12. PJM Interconnection, L.L.C.

[Docket No. ER00-3506-000]

Take notice that on August 23, 2000, PJM Interconnection, L.L.C. (PJM), tendered for filing signature pages to the Reliability Assurance Agreement among Load Serving Entities in the PJM Control Area (RAA) for HIS Power & Water, L.L.C. (HIS Power), It's Electric & Gas, L.L.C., (It's Electric & Gas), and The New Power Company (New Power), and an amended Schedule 17 listing the parties to the RAA.

PJM states that it served a copy of its filing on all parties to the RAA, including HIS Power, It's Electric & Gas, New Power, and each of the state electric utility regulatory commissions within the PJM Control Area.

Comment date: September 13, 2000, in accordance with Standard Paragraph E at the end of this notice.

13. New England Power Pool

[Docket No. ER00-3507-000]

Take notice that on August 24, 2000, the New England Power Pool (NEPOOL), Participants Committee filed for acceptance materials to permit NEPOOL to expand its membership to include Edison Mission Marketing & Trading, Inc. (EMMT) and to terminate the membership of Citizens Power Sales, LLC (Citizens).

NEPOOL requests an effective date for the commencement of EMMT's participation in and Citizens' termination from NEPOOL as of the date of the closing of the merger of Citizens with and into EMMT.

The Participants Committee states that copies of these materials were sent to the New England state governors and regulatory commissions and the Participants in NEPOOL.

Comment date: September 14, 2000, in accordance with Standard Paragraph E at the end of this notice.

14. American Electric Power Service Corporation

[Docket No. ER00-3517-000]

Take notice that on August 24, 2000, American Electric Power Service Corporation (AEP), tendered for filing changes to the AEP open access transmission service tariff (OATT) in the above-referenced proceeding.

Comment date: September 14, 2000, in accordance with Standard Paragraph E at the end of this notice.

15. Public Service Company of New Mexico

[Docket No. ER00-3508-000]

Take notice that on August 24, 2000, Public Service Company of New Mexico (PNM), tendered for filing an executed service agreement, for electric power and energy sales at negotiated rates under the terms of PNM's Power and Energy Sales Tariff, with PacifiCorp (dated March 19, 1999). PNM's filing is available for public inspection at its offices in Albuquerque, New Mexico.

Copies of the filing have been sent to PacifiCorp and to the New Mexico Public Regulation Commission.

Comment date: September 14, 2000, in accordance with Standard Paragraph E at the end of this notice.

16. Commonwealth Edison Company

[Docket No. ER00-3509-000]

Take notice that on August 24, 2000, Commonwealth Edison Company (ComEd), tendered for filing an Interconnection Agreement with LSP-Nelson Energy, LLC.

ComEd requests an effective date of August 25, 2000 and accordingly seeks waiver of the Commission's notice requirements.

Copies of the filing were served on LSP-Nelson and the Illinois Commerce Commission.

Comment date: September 14, 2000, in accordance with Standard Paragraph E at the end of this notice.

17. New England Power Pool

[Docket No. ER00-3510-000]

Take notice that on August 24, 2000, the New England Power Pool (NEPOOL) Participants Committee tendered for acceptance materials to permit NEPOOL to expand its membership to include CMS Marketing Services and Trading CMS).

The Participants Committee requests an effective date of September 1, 2000 for commencement of participation in NEPOOL by CMS.

The Participants Committee states that copies of these materials were sent to the New England state governors and regulatory commissions and the Participants in NEPOOL.

Comment date: September 14, 2000, in accordance with Standard Paragraph E at the end of this notice.

18. Carolina Power & Light Company

[Docket No. ER00-3511-000]

Take notice that on August 24, 2000, Carolina Power & Light Company (CP&L), tendered for filing Service Agreements for Short-Term Firm Point-to-Point Transmission Service with Florida Power Corporation and Public Service Electric and Gas Company. Service to these Eligible Customers will be in accordance with the terms and conditions of Carolina Power & Light Company's Open Access Transmission Tariff.

CP&L is requesting an effective date of August 3, 2000 for the Agreement with Florida Power and an effective date of August 7, 2000 for the Agreement with Public Service.

Copies of the filing were served upon the North Carolina Utilities Commission and the South Carolina Public Service Commission.

Comment date: September 14, 2000, in accordance with Standard Paragraph E at the end of this notice.

19. LSP Energy Limited Partnership

[Docket No. ER00-3512-000]

Take notice that on August 24, 2000, LSP Energy Limited Partnership (LSP Energy), tendered for filing under Section 205 of the Federal Power Act two short-term umbrella service agreements between LSP Energy and Virginia Electric and Power Company, and one short-term umbrella service agreement between LSP Energy and Aquila Energy Marketing Corporation. The umbrella service agreements provide for sales of test energy under LSP Energy's market-based rate schedule.

LSP Energy requests an effective date for the umbrella service agreements of July 26, 2000.

Comment date: September 14, 2000, in accordance with Standard Paragraph E at the end of this notice.

20. PJM Interconnection, L.L.C.

[Docket No. ER00-3513-000]

Take notice that on August 24, 2000, PJM Interconnection, L.L.C. (PJM), tendered for filing changes to Attachment K (PJM Interchange Energy Market) of the PJM Open Access Transmission Tariff (PJM Tariff) and to Schedule 1 of the Amended and Restated Operating Agreement of PJM Interconnection, L.L.C. (Operating Agreement), to clarify that generation facilities located in the PJM control area may obtain “Station Power,” i.e., energy consumed by a generation facility, or by other equipment or facilities located at the site of a generation facility, from the PJM Interchange Energy Market.

Copies of this filing were served upon all members of PJM and each state electric utility regulatory commission in the PJM control area.

Comment date: September 14, 2000, in accordance with Standard Paragraph E at the end of this notice.

21. FirstEnergy System

[Docket No. ER00-3514-000]

Take notice that on August 24, 2000, FirstEnergy System tendered a Service Agreement to provide Non-Firm Point-to-Point Transmission Service for Alliance Energy Services Partnership, the Transmission Customer. Services are being provided under the FirstEnergy System Open Access Transmission Tariff submitted for filing by the Federal Energy Regulatory Commission in Docket No. ER97-412-000.

The proposed effective date under this Service Agreement is August 15, 2000 for the above mentioned Service Agreement in this filing.

Comment date: September 14, 2000, in accordance with Standard Paragraph E at the end of this notice.

22. LSP Energy Limited Partnership

[Docket No. ER00-3515-000]

Take notice that on August 24, 2000, LSP Energy Limited Partnership (LSP Energy), tendered for filing under Section 205 of the Federal Power Act three short-term umbrella service agreements between LSP Energy and Virginia Electric and Power Company, and one short-term umbrella service agreement between LSP Energy and Aquila Energy Marketing Corporation. The umbrella service agreements provide for sales of test energy under LSP Energy's market-based rate schedule.

LSP Energy requests an effective date for the umbrella service agreements coincident with the commencement of service thereunder.

Comment date: September 14, 2000, in accordance with Standard Paragraph E at the end of this notice.

23. FirstEnergy System

[Docket No. ER00-3516-000]

Take notice that on August 24, 2000, FirstEnergy System tendered for filing Service Agreements to provide Firm Point-to-Point Transmission Service for Alliance Energy Services Partnership, the Transmission Customer. Services are being provided under the FirstEnergy System Open Access Transmission Tariff submitted for filing by the Federal Energy Regulatory Commission in Docket No. ER97-412-000.

The proposed effective date under this Service Agreement is August 15, 2000 for the above mentioned Service Agreement in this filing.

Comment date: September 14, 2000, in accordance with Standard Paragraph E at the end of this notice.

24. Indianapolis Power & Light Company

[Docket No. ER00-3518-000]

Take notice that on August 24, 2000, Indianapolis Power & Light Company (IPL), tendered for filing an Interconnection, Operation and Maintenance Agreement between IPL and the Board of Directors for Utilities for the Department of Public Utilities of the City of Indianapolis, as trustee of a public charitable trust, d/b/a Citizens Gas & Coke Utility (Citizens), in the above-captioned docket.

IPL requests an effective date as of the closing of the sale to Citizens of certain steam production and distribution facilities, which date is not presently known but which would not occur before sixty (60) days after the date of filing.

Copies of this filing have been served upon Citizens and the Indiana Utility Regulatory Commission.

Comment date: September 14, 2000, in accordance with Standard Paragraph E at the end of this notice.

25. New England Power Pool

[Docket No. ER00-3519-000]

Take notice that on August 24, 2000, the New England Power Pool (NEPOOL), Participants Committee submitted several revised Market Rules and Procedures (the Market Rules), and revisions and deletions of several relevant appendices to the Market Rules, which collectively remove from the Market Rules all mention of the Installed Capability auction market in accordance with NEPOOL's proposed elimination of that Auction market as set forth in the Fifty-Eighth Agreement Amending New England Power Pool Agreement filed with the Commission on July 28, 2000 in Docket Nos. EL00-62-000, et al.

The NEPOOL Participants Committee states that copies of these materials were sent to all Participants in NEPOOL, the New England state governors and regulatory commissions.

Comment date: September 14, 2000, in accordance with Standard Paragraph E at the end of this notice.

26. Western Resources, Inc.

[Docket No. ES00-52-000]

Take notice that on August 24, 2000, Western Resources, Inc. (Western) filed an application under section 204 of the Federal Power Act seeking authorization to issue no more than 6,000,000 shares of common stock pursuant to Western's Direct Stock Purchase Plan.

Western also requests a waiver of the Commission's competitive bidding and negotiated placement requirements of 18 CFR 34.2 and a waiver of the reporting requirements under 18 CFR 34.10 with regard to issuances of common stock pursuant to the Direct Stock Purchase Plan.

Comment date: September 19, 2000, in accordance with Standard Paragraph E at the end of this notice.

27. American Electric Power Service Corporation

[Docket No. ER00-3517-000]

Take notice that on August 24, 2000, American Electric Power Service Corporation tendered for filing, on behalf of the operating companies of the American Electric Power System, proposed amendments to the Open Access Transmission Tariff accepted for filing by the Commission in Docket No. ER98-2786-000.

AEP requests effective dates of April 13, 1999, June 15, 2000, October 31, 2000 and January 1, 2001 for such amendments.

Copies of AEP's filing have been served upon AEP's transmission customers and the public service commissions of Arkansas, Indiana, Kentucky, Louisiana, Michigan, Ohio, Tennessee, Texas, Virginia and West Virginia and the Oklahoma Corporation Commission.

Comment date: September 14, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-22857 Filed 9-6-00; 8:45 am]

BILLING CODE 6717-01-P